DEPARTMENT OF HOMELAND SECURITY

Notice of the Renewal of the CISA Cybersecurity Advisory Committee Charter

AGENCY: Cybersecurity and Infrastructure Security Agency, Department of Homeland Security (DHS).

ACTION: Notice of availability; renewal of the Cybersecurity and Infrastructure Security Agency Cybersecurity Advisory Committee Charter.

SUMMARY: The Secretary, Department of Homeland Security has determined that the renewal of the Cybersecurity and Infrastructure Security Agency (CISA) Cybersecurity Advisory Committee (CSAC) is necessary and in the public interest in connection with DHS's performance of its duties. Through this notice, the Department is announcing the charter renewal of the CSAC, a Federal Advisory Committee, for public awareness.

FOR FURTHER INFORMATION CONTACT: Megan Tsuyi, 202-594-7374, CISA_CybersecurityAdvisoryCommittee@cisa.dhs.gov.

SUPPLEMENTARY INFORMATION: The CSAC was officially established on June 25, 2021 under the National Defense Authorization Act for Fiscal Year 2021, Public Law 116-283 (NDAA). Pursuant to section 871(a) of the Homeland Security Act of 2002, 6 United States Code (U.S.C.) 451(a), this statutory committee is established in accordance with and operates under the provisions of the Federal Advisory Committee Act (FACA) (5 U.S.C., chapter 10).

The primary purpose of the CSAC is to develop, at the request of the CISA Director, recommendations on matters related to the development, refinement, and implementation of policies, programs, planning, and training pertaining to the cybersecurity mission of the Agency. The CSAC operates in an advisory capacity only and is in the public interest. Please visit https://www.cisa.gov/resources-tools/groups/cisa-cybersecurity-advisory-committee for more information on CSAC, and the CSAC Membership Roster.

Membership: The Committee is composed of up to 35 members. Members are appointed by the Director. Members consist of subject matter experts and shall be geographically balanced, and include representatives of State, local, Tribal, and Territorial governments and of a broad range of industries, which may include defense, education, financial services and insurance, healthcare, manufacturing, media and entertainment, chemicals, retail, transportation, energy, information technology, communications, and other relevant fields identified by the Director. For DHS to fully leverage broad-ranging experience and education, the Committee must be diverse with regard to professional and technical expertise. DHS is committed to pursuing opportunities, consistent with applicable law, to compose a committee that reflects the diversity of the nation's people.

Duration: The CSAC charter was filed with Congress on May 23, 2023 and will terminate on May 23, 2025, unless renewed by the Secretary.

Megan M. Tsuyi,
Designated Federal Officer, CISA Cybersecurity Advisory Committee, Cybersecurity and Infrastructure Security Agency, Department of Homeland Security.

[FR Doc. 2023-13596 Filed 6-26-23; 8:45 am]

BILLING CODE P